OFFICE OF SCIENCE AND TECHNOLOGY POLICY

NATIONAL SCIENCE FOUNDATION

Request for Information (RFI) on an Implementation Plan for a National Artificial Intelligence Research Resource

AGENCY: White House Office of Science and Technology Policy and National Science Foundation.

ACTION: Request for information and comment; Extension of comment period.

SUMMARY: On July 23, 2021, the Office of Science and Technology Policy (OSTP) and the National Science Foundation (NSF) published in the Federal Register a document entitled “Request for Information (RFI) on an Implementation Plan for a National Artificial Intelligence Research Resource” and invited comments to inform the work of the National Artificial Intelligence Research Resource (NAIRR) Task Force (“Task Force”). The Task Force has been directed by Congress to develop an implementation roadmap for a shared research infrastructure that would provide Artificial Intelligence (AI) researchers and students across scientific disciplines with access to computational resources, high-quality data, educational tools, and user support. In response to requests by prospective commenters that they would benefit from additional time to adequately consider and respond to the RFI, OSTP and NSF have determined that an extension of the comment period until October 1, 2021, is appropriate.

DATES: The end of the comment period for the document entitled “Request for Information (RFI) on an Implementation Plan for a National Artificial Intelligence Research Resource,” published on July 23, 2021 (86 FR 39081), is extended from September 1, 2021, until October 1, 2021.

ADDRESSES: Comments submitted in response to 86 FR 39081 may be sent by any of the following methods:

• Email: NAIRR-responses@nitrd.gov. Email submissions should be machine-readable and not be copy-protected. Submissions should include “RFI Response: National AI Research Resource” in the subject line of the message.

• Mail: Attn: Wendy Wigen, NCO, 2415 Eisenhower Avenue, Alexandria, VA 22314, USA.

Instructions: Response to this RFI (86 FR 39081) is voluntary. Each individual or institution is requested to submit only one response. Submissions must be in 12 point or larger font, include a page number on each page, and not exceed 10 pages. Responses should include the name of the person(s) or organization(s) filing the comment. Responses should refer to the particular topic number(s) and letter(s), as listed below, to which the comments pertain.

Responses to this RFI (86 FR 39081) may be posted online at www.ai.gov. Therefore, responses must be appropriate for posting publicly without change or redaction, and we request that no business proprietary information, copyrighted information, or personally identifiable information be submitted in response to this RFI. Please submit your comments using only one method.

FOR FURTHER INFORMATION CONTACT: Wendy Wigen and NAIRR-responses@nitrd.gov, (202) 459-9683. Individuals who use a telecommunications device for the deaf (TDD) may call the Federal Information Relay Service (FIRS) at 1-800-877-8339 between 8 a.m. and 8 p.m., Eastern time, Monday through Friday.

SUPPLEMENTARY INFORMATION: On July 23, 2021, OSTP and NSF published in the Federal Register a document inviting comments on the work of the NAIRR Task Force (86 FR 39081). The Task Force has been directed by Congress to develop an implementation roadmap for a shared research infrastructure that would provide AI researchers and students across scientific disciplines with access to computational resources, high-quality data, educational tools, and user support. The RFI was issued to seek input from a broad array of stakeholders on options, models and priorities to consider for the NAIRR implementation roadmap, as well as how the NAIRR can reinforce principles and practices of ethical and responsible research and development of AI. Comments from the public will be used to inform the Task Force's development of an implementation roadmap. The document stated that the comment period would close on September 1, 2021. OSTP and NSF have received requests to extend the comment period. An extension of the comment period will provide additional opportunity for the public to consider the RFI and prepare comments to address the questions posed therein. Therefore, OSTP and NSF are extending the end of the comment period for the RFI from September 1, 2021, until October 1, 2021.

Submitted by the National Science Foundation and the White House Office of Science and Technology Policy on August 13, 2021.

Suzanne H. Plimpton,
Reports Clearance Officer, National Science Foundation.
Stacy Murphy,
Operations Manager, White House Office of Science and Technology Policy.

[FR Doc. 2021-17737 Filed 8-17-21; 8:45 am]

BILLING CODE 7555-01-P